DEPARTMENT OF STATE

[Public Notice: 10164]

U.S. Department of State Advisory Committee on Private International Law (ACPIL): Public Meeting on Online Dispute Resolution

The Office of the Assistant Legal Adviser for Private International Law, Department of State, hereby gives notice that the ACPIL will hold a public meeting to discuss a pending proposal on online dispute resolution in the Asia Pacific Economic Cooperation forum (APEC). This is not a meeting of the full Advisory Committee.

In February 2017, the APEC Economic Committee endorsed a work plan on the development of an APEC-wide cooperative framework for ODR for Micro, Small, and Medium Sized Enterprises (MSMEs) in business-to-business (b2b) cross border transactions. The proposal is currently co-sponsored by fourteen member economies.

MSMEs have gained unprecedented access to international trade via the global supply chain and cross-border e-commerce, but to effectively reach global markets these businesses need a legal environment which enables the quick resolution of disputes and creates confidence in cross-border e-commerce. The use of ODR could be an effective means to solve this problem. ODR is a way of resolving disputes using traditional methods such as negotiation, mediation, and arbitration, but with the help of technology and without the need for a physical presence at a meeting or hearing.

At its most recent meeting in August 2017, the APEC Economic Committee endorsed a revised work plan on ODR that includes inter alia “build[ing] a pilot in conjunction with platform host/ODR provider via outreach to regional arbitration/mediation centers to determine possible partners for hosting ODR platform.” Additionally, the scope of the project was expanded to include “Use of Modern Technology for Dispute Resolution and Electronic Agreement Management” with the explanation that “it is also worthwhile to explore the use of other modern technology such as block chain, automated or smart contracts for contract management or enforcement and prevention of disputes.” The APEC Economic Committee has approved a two-day workshop for the first Economic Committee meeting in February 2018 to discuss the work plan and the pilot proposal.

Time and Place: The public meeting will take place on November 1, from 10 a.m. to 1:00 p.m. EDT in Room 356, South Building, State Department Annex 4A, Washington, DC 20037. Participants should plan to arrive at the Navy Hill gate on the west side of 23rd Street NW., near the intersection of 23rd Street NW. and D Street NW. between 9:30 and 9:45 a.m. for visitor screening. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than October 18, 2016. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities.

The data will be entered into the Visitor Access Control System (VACS-D) database. Please see the Security Records System of Records Notice (State-36) at https://foia.state.gov/_docs/SORN/State-36.pdf for additional information.

Michael J. Dennis,
Attorney-Adviser, Office of Private International Law, Office of the Legal Adviser, Department of State.

[FR Doc. 2017-22324 Filed 10-13-17; 8:45 am]

BILLING CODE 4710-08-P